DEPARTMENT OF ENERGY

Federal Energy Regulatory Commission

Notice of Application Accepted for Filing, Soliciting Motions To Intervene and Protests, Ready for Environmental Analysis, and Soliciting Comments, Recommendations, Terms and Conditions, and Prescriptions

March 15, 2006.

Take notice that the following hydroelectric application has been filed with the Commission and is available for public inspection.

a. Type of Application: Subsequent License.

b. Project No.: 1051-012.

c. Date Filed: August 29, 2005.

d. Applicant: Alaska Power & Telephone Company (AP&T).

e. Name of Project: Skagway-Dewey Lakes Project.

f. Location: On Pullen, Dewey, Reid, Icy, and Snyder Creeks within the city limits of Skagway, Alaska. The project does not utilize any Federal lands.

g. Filed Pursuant to: Federal Power Act 16 U.S.C. 791(a)-825(r).

h. Applicant Contact: Bob Grimm, AP&T, PO Box 3222, Port Townsend, Washington 98368, (360) 385-1733, ext. 120.

i. FERC Contacts: Alan Mitchnick, (202) 502-6074, alan.mitchnick@ferc.gov; or Shana Murray, (202) 502-8333, shana.murray@ferc.gov.

j. Deadline for filing motions to intervene and protests, comments, recommendations, terms and conditions, and prescriptions is 60 days from the issuance of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted for filing and is now is ready for environmental analysis.

l. Project Description: Water from Reid Falls, Icy Creek, and Snyder Creek is diverted to Lower Dewey Lake, which in turn, flows into Dewey reservoir. The project withdraws water from Dewey reservoir to supply the powerhouse. Existing project features include: the 26-foot-long, 8-foot-high Reid Falls diversion dam that diverts water into a 14-inch-diameter, 1,280-foot-long steel pipeline running to Icy Creek; the 102-foot-long, 5-foot-high Icy Lake dam impounding the 3.4-acre Icy Lake; the 30-foot long and 3-foot-high Snyder Creek diversion dam that diverts water from Snyder Creek into a diversion channel that conveys water to Lower Dewey Lake; the 629-foot-long, 28-foot-high Lower Dewey Lake dam, impounding the 32.8-acre Lower Dewey Lake; the 132-foot-long, 30-foot-high, Dewey reservoir dam, impounding 2.7 acres; a 300-foot-long canal running between Lower Dewey Lake and Dewey reservoir; three penstocks that run from the Dewey reservoir dam about 1,850 feet to the project's powerhouse that sits adjacent to Pullen Creek within the City of Skagway; and a powerhouse containing four turbines with a total installed capacity of 943 kilowatts. No changes to the project are proposed.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

Magalie R. Salas,
Secretary.

[FR Doc. E6-4228 Filed 3-23-06; 8:45 am]

BILLING CODE 6717-01-P